DEPARTMENT OF COMMERCE

National Oceanic and Atmospheric Administration

Science Advisory Board

AGENCY: National Oceanic and Atmospheric Administration (NOAA), Department of Commerce (DOC).

ACTION: Notice of public meetings.

SUMMARY: This notice sets forth the schedule and proposed agenda for a meeting of the Science Advisory Board (SAB). The members will discuss issues outlined in the section on Matters to be considered.

DATES: The meeting is scheduled for November 15, 2023 from 8:30 a.m. to 5:00 p.m. Eastern Standard Time (EST) and November 16, 2023 from 8:30 a.m. to 5:00 p.m. EST. These times and the agenda topics described below are subject to change. For the latest agenda please refer to the SAB website: http://sab.noaa.gov/SABMeetings/.

ADDRESSES: The meeting location is to be determined. The exact meeting location and a link for the webinar registration will be posted, when available, on the SAB website: https://sab.noaa.gov/current-meetings/.

FOR FURTHER INFORMATION CONTACT: Casey Stewart, Executive Director, SSMC3, Room 11360, 1315 East-West Hwy., Silver Spring, MD 20910; Phone Number: 240-381-0833; Email: noaa.scienceadvisoryboard@noaa.gov; or visit the SAB website at https://sab.noaa.gov/current-meetings/.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The November 15-16, 2023 meeting will be open to public participation with a 15-minute public comment period at 4:45 p.m. EST on November 15. The SAB expects that public statements presented at its meetings will not be repetitive of previously submitted verbal or written statements. In general, each individual or group making a verbal presentation will be limited to a total time of three minutes. Written comments for the November 16-26, 2023 meeting should be received by the SAB Executive Director's Office (noaa.scienceadvisoryboard@noaa.gov) by November 08, 2023 to provide sufficient time for SAB review. Written comments received by the SAB Executive Director after these dates will be distributed to the SAB, but may not be reviewed prior to the meeting date.

Special Accommodations: These meetings are physically accessible to people with disabilities. Requests for special accommodations may be directed to the Executive Director no later than 12 p.m. on November 08, 2023.

Matters to be Considered: The meeting on November 15-16, 2023 will include the following topics: (1) the NOAA Update, (2) NOAA Science Update, (3) Presentation on the NOAA Response to Open Data/Open Science Report, (4) Presentation on the NOAA Response to EISWG S2S Report, (5) Presentation on the NOAA Response to ESMWG Rapidly Changing Marine Environment Report, (6) Presentation on NOAA Response to DAARWG Report on the NESDIS Common Cloud Framework, and (7) Presentation on Revisions to the P3 Report, (8) Presentation on the CWG Report on Operational Oceanographic Forecasting for Climate, and (9) Presentation on the EISWG Report on Radar Gaps. Meeting materials, including work products, will also be available on the SAB website: https://sab.noaa.gov/current-meetings/current-meeting-documents/.

David Holst,
Chief Financial Officer/Administrative Officer, Office of Oceanic and Atmospheric Research, National Oceanic and Atmospheric Administration.

[FR Doc. 2023-21884 Filed 10-2-23; 8:45 am]

BILLING CODE 3510-KD-P